DEPARTMENT OF AGRICULTURE

Food Safety and Inspection Service

[Docket No. 05-020N]

National Advisory Committee on Meat and Poultry Inspection

AGENCY: Food Safety and Inspection Service (FSIS), USDA.

ACTION: Notice of public meeting.

SUMMARY: The National Advisory Committee on Meat and Poultry Inspection (NACMPI) will hold a public meeting on June 16-17, 2005, to review and discuss the following issues: (1) How can FSIS best share information on new technology with small and very small plants? (2) What guidance can be provided to industry to ensure that plants hold product when FSIS tests product for an adulterant? (3) How can risk based sampling most effectively be conducted in small and very small plants? Three subcommittees will also meet on June 16-17, 2005, to work on the issues discussed during the full committee session.

DATES: The full Committee will hold a public meeting on Thursday, June 16 and Friday, June 17, 2005, from 8:30 a.m. to 2 p.m. Subcommittees will hold open meetings on Thursday, June 16, 2005, from 3 p.m. to 6 p.m.

ADDRESSES: All Committee meetings will take place in the conference room at the south end of the USDA cafeteria located in the South Building, 1400 Independence Avenue, SW. A meeting agenda is available on the Internet at http://www.fsis.usda.gov/OPPDE/NACMPI. FSIS welcomes comments on the topics to be discussed at the public meeting. Comments may be submitted by mail, including floppy disks or CD-ROM's, or by hand delivery to: Docket Clerk, U.S. Department of Agriculture, Food Safety and Inspection Service, Room 102 Cotton Annex, 300 12th Street, SW., Washington, DC 20250. Comments may also be sent by facsimile to (202) 205-0381. All submissions received must include the Agency name and docket number 05-020N. All comments submitted in response to this notice, as well as research and background information used by FSIS in developing this document, will be available for public inspection in the FSIS Docket Room at the address listed above between 8:30 a.m. and 4:30 p.m., Monday through Friday. The comments also will be posted on the Agency's Web site at http://www.fsis.usda.gov/regulations/2005_Notices_Index/.

FOR FURTHER INFORMATION CONTACT: Robert Tynan for technical information at (202) 690-6522 or e-mail robert.tynan@fsis.usda.gov and Sonya L. West for meeting information at (202) 690-1079, FAX (202) 690-6519, or e-mail sonya.west@fsis.usda.gov. Persons requiring a sign language interpreter or other special accommodations should notify Ms. West no later than June 10, 2005, at the numbers above or by e-mail.

SUPPLEMENTARY INFORMATION:

Background

On March 15, 2005, the Secretary of Agriculture renewed the charter for the NACMPI. The Committee provides advice and recommendations to the Secretary of Agriculture pertaining to the Federal and State meat and poultry inspection programs, pursuant to sections 7(c), 24, 205, 301(a)(3), 301(a)(4), and 301(c) of the Federal Meat Inspection Act (21 U.S.C. 607(c), 624, 645, 661(a)(3), 661(a)(4), and 661(c)) and sections 5(a)(3), 5(a)(4), 5(c), 8(b), and 11(e) of the Poultry Products Inspection Act (21 U.S.C. 454(a)(3), 454(a)(4), 454(c), 457(b), and 460(e)).

The Administrator of FSIS is the chairperson of the Committee. Membership of the Committee is drawn from representatives of consumer groups, producers, processors and marketers from the meat, poultry and egg product industry, state government officials, and academia. The current members of the NACMPI are: Dr. Gladys Bayse, Spelman College; Dr. David Carpenter, Southern Illinois University; Dr. James Denton, University of Arkansas; Mr. Darin Detwiler, Lake Washington School District; Mr. Kevin Elfering, Minnesota Department of Agriculture; Ms. Sandra Eskin, Attorney; Mr. Mike Finnegan, State of Montana; Mr. Michael Govro, Oregon Department of Agriculture; Dr. Andrea Grondahl, North Dakota Department of Agriculture; Dr. Joseph Harris, Southwest Meat Association; Dr. Jill Hollingsworth, Food Marketing Institute; Mr. Michael Kowalcyk, Safe Tables Our Priority; Dr. Elizabeth Krushinskie, U.S. Poultry & Egg Association; Dr. Irene Leech, Virginia Citizens Consumer Council; Mr. Charles Link, Cargill Meat Solutions; Dr. Catherine Logue, North Dakota State University; and Mr. Mark Schad, Schad Meats.

The Committee has three subcommittees to deliberate on specific issues and make recommendations to the whole Committee. The Committee makes recommendations to the Secretary of Agriculture.

All interested parties are welcome to attend the meetings and to submit written comments and suggestions concerning issues the Committee will review and discuss. The comments and the official transcript of the meeting, when they become available, will be kept in the FSIS Docket Room at the address provided above. All comments received in response to this notice will be considered part of the public record and will be available for viewing in the FSIS Docket Room between 8:30 a.m. and 4:30 p.m., Monday through Friday. Members of the public will be required to register before entering the meeting.

Additional Public Notification

Public awareness of all segments of rulemaking and policy development is important. Consequently, in an effort to ensure that minorities, women, and persons with disabilities are aware of this notice, FSIS will announce it on-line through the FSIS Web Page located at http://www.fsis.usda.gov/regulations/2005_Notices_Index/index.asp. FSIS also will make copies of this Federal Register publication available through the FSIS Constituent Update, which is used to provide information regarding FSIS polities, procedures, regulations, Federal Register notices, FSIS public meetings, recalls, and other types of information that could affect or would be of interest to constituents and stakeholders. The update is communicated via Listserv, a free electronic mail subscription service for industry, trade, and farm groups, consumer interest groups, allied health professionals, and other individuals who have asked to be included. The update is available on the FSIS Web page. Through the Listserv and web page, FSIS is able to provide information to a much broader and more diverse audience.

In addition, FSIS offers an electronic mail subscription service that provides an automatic and customized notification when popular pages are updated, including Federal Register publications and related documents. This service is available at http://www.fsis.usda.gov/news_and_events/email_subscription/ and allows FSIS customers to sign up for subscription options in eight categories. Options range from recalls to export information to regulations, directives, and notices. Customers can add or delete subscriptions themselves and have the option to protect their accounts with passwords.

Done in Washington, DC, on: May 25, 2005.
Barbara J. Masters,
Acting Administrator.

[FR Doc. 05-10735 Filed 5-27-05; 8:45 am]

BILLING CODE 3410-DM-P